NUCLEAR REGULATORY COMMISSION

[Docket No. 030-29288]

Notice of Consideration of License Renewal Request for Decommissioning the Quehanna Site in Karthaus, Pennsylvania and Opportunity To Provide Comments and Request a Hearing

ACTION: Notice of consideration of amendment request to renew license to authorize decommissioning, and opportunity to provide comments and to request a hearing.

FOR FURTHER INFORMATION CONTACT: James Kottan, Project Manager, Decommissioning and Laboratory Branch, Division of Nuclear Materials Safety, Region I, U.S. Nuclear Regulatory Commission, 475 Allendale Road, King of Prussia, PA 19406. Telephone: (610) 337-5214, fax number (610) 337-5269, and/or e-mail jjk@nrc.gov.

SUPPLEMENTARY INFORMATION:

I. Introduction

The U.S. Nuclear Regulatory Commission is considering the renewal of By-Product Materials License No. 37-17860-02 (License No. 37-17860-02), issued to the Pennsylvania Department of Environmental Protection, Bureau of Radiation Protection, to authorize decommissioning of the Quehanna Site in Karthaus, Pennsylvania.

The licensee has been performing limited decommissioning of the hot cells at the Quehanna Site in accordance with the conditions described in License No. 37-17860-02. On February 26, 2003, the licensee submitted a license renewal application, including a revised Decommissioning Plan (DP) for the Quehanna Site, to the NRC for review that summarized the decommissioning activities that will be undertaken to remediate the hot cells and other building areas and any contaminated soil. Radioactive contamination at the licensee's Quehanna Site consists of contaminated process piping, soils, and building surfaces contaminated primarily with strontium-90 resulting from licensed operations that occurred from the late 1950s until 1967.

The NRC will require the licensee to remediate the Quehanna Site to meet the NRC's decommissioning criteria and, during decommissioning activities, to maintain effluents and doses within NRC requirements and as low as reasonably achievable.

Prior to approving the decommissioning plan, the NRC will have made findings required by the Atomic Energy Act of 1954, as amended, and NRC's regulations. Renewal of the license, including approval of the Decommissioning Plan for the Quehanna Site, will be documented in an amendment to License No. 37-17860-02.

II. Opportunity To Provide Comments

In accordance with 10 CFR 20.1405, the NRC is providing notice to individuals in the vicinity of the site that the NRC is in receipt of a DP, and will accept comments concerning this decommissioning proposal and its associated environmental impacts. Comments with respect to this action should be provided in writing within 30 days of this notice and addressed to James Kottan, Project Manager, Decommissioning and Laboratory Branch, Division of Nuclear Materials Safety, Region I, 475 Allendale Road, King of Prussia, PA 19406. Telephone: (610) 337-5214, fax number (610) 337-5269, and/or e-mail jjk@nrc.gov. Comments received after 30 days will be considered if practicable to do so, but only those comments received on or before the due date can be assured consideration.

III. Opportunity To Request a Hearing

NRC also provides notice that this is a proceeding on an application for an amendment of a license falling within the scope of Subpart L, “Informal Hearing Procedures for Adjudication in Materials Licensing Proceedings,” of NRC's rules and practice for domestic licensing proceedings in 10 CFR part 2. Whether or not a person has or intends to provide comments as set out in section II. above, pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to Secretary, U.S. Nuclear Regulatory Commission, One White Flint North, 11555 Rockville Pike, Rockville, MD 20852-2738, between 7:45 a.m. and 4:15 p.m., Federal workdays; or

2. By mail, telegram, or facsimile addressed to the Secretary, U.S. Nuclear Regulatory Commission, Washington, DC 20555-0001. Attention: Rulemakings and Adjudications Staff. Because of continuing disruptions in the delivery of mail to United States Government offices, it is requested that requests for hearing also be transmitted to the Secretary of the Commission either by means of facsimile transmission to 301-415-1101, or by e-mail to hearingdocket@nrc.gov.

In accordance with 10 CFR 2.1205(f), each request for a hearing must also be served, by delivering it personally or by mail, to:

1. The applicant, Pennsylvania Department of Environmental Protection, Bureau of Radiation Protection, Rachel Carson State Office Building, P.O. Box 2063, Harrisburg, Pennsylvania 17105-2063, Attention: David J. Allard, Bureau Director; and

2. The NRC staff, by delivery to the General Counsel, U.S. Nuclear Regulatory Commission, One White Flint North, 11555 Rockville Pike, Rockville, MD 20852-2738, between 7:45 am and 4:15 p.m., Federal workdays, or by mail, addressed to the General Counsel, U.S. Nuclear Regulatory Commission, Washington, DC 20555-0001. Because of continuing disruptions in the delivery of mail to United States Government offices, it is requested that requests for hearing be also transmitted to the Office of the General Counsel, either by means of facsimile transmission to (301) 415-3725, or by e-mail to OGCMailCenter@nrc.gov.

In addition to meeting other applicable requirements of 10 CFR part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and

4. The circumstances establishing that the request for a hearing is timely in accordance with § 2.1205(d).

IV. Further Information

Additional details with respect to this action, the renewal application, including the decommissioning plan, are available for inspection at the NRC's Public Electronic Reading Room at http://www.nrc.gov/NRC/ADAMS/index.html. [Accession Number: ML030800038]. These documents are also available for inspection and copying for a fee at the Region I Office, 475 Allendale Road, King of Prussia, Pennsylvania, 19406.

Dated at King of Prussia, Pennsylvania, this 24th day of July, 2003.
For the Nuclear Regulatory Commission.
Ronald Bellamy,
Chief, Decommissioning and Laboratory Branch, Division of Nuclear Materials Safety, RI.

[FR Doc. 03-19689 Filed 8-1-03; 8:45 am]

BILLING CODE 7590-01-P